ENVIRONMENTAL PROTECTION AGENCY

[FRL-7985-5]

Administrative Order on Consent—Denver Radium OU 2

AGENCY: Environmental Protection Agency.

ACTION: Notice of Proposed Settlement Agreement Pursuant to Sections 104, 106(a), 107 and 122 of CERCLA and request for public comment.

SUMMARY: Notice is hereby given of a proposed settlement pursuant to sections 104, 106(a), 107 and 122 of the Comprehensive Environmental Response, Compensation, and Liability Act of 1980, 42 U.S.C. 9604, 9606(a), 9607 and 9622, as amended (“CERCLA”), and under the authority of the Attorney General of the United States to compromise and settle claims of the United States concerning the Denver Radium Superfund site, Operable Unit 2 (“OU 2”). The proposed settlement is embodied in an Administrative Order on Consent (“AOC”) between the United States, on behalf of the United States Environmental Protection Agency (“EPA”) and the Atlas Metal & Iron Corp. and Atlas Umatilla, LLC (“Settling Respondents,” (collectively the “Parties”)).

This AOC provides for the performance of operation and maintenance activities by the Settling Respondents, the recording of an environmental covenant by Atlas Umatilla, LLC, and the reimbursement of certain response costs incurred by the United States at or in connection with OU 2. In exchange, the United States will provide covenants to the Settling Respondents under sections 106 and 107 of CERCLA, 42 U.S.C. 9606 or 9607, will provide contribution protection for the Settling Respondents, and will waive any lien(s) it may have on the property located at 1100 Umatilla, Denver, Colorado (“Property”) under sections 107(l) and 107(r) of CERCLA, 42 U.S.C. 9607(l) and 9607(r). EPA has notified the State of Colorado (the “State”) of this action pursuant to section 106(a) of CERCLA, 42 U.S.C. 9606(a).

The Property was listed on the NPL as part of OU 2, on September 8, 1983. EPA issued a ROD for OU 2 on September 29, 1987. The ROD called for excavation and off-site disposal of the radium-contaminated soils. During implementation of the ROD, EPA determined that some radium-contaminated soils could be left in place pursuant to supplemental standards and also discovered the lead contaminated soils. It was determined that excavation, treatment, and off-Site disposal were the best response actions for the lead contaminated soils. These changes to the ROD were documented in an Explanation of Significant Differences (ESD) dated September 17, 1993.

Operation and maintenance activities still need to be performed at the Property, including implementation of institutional controls, to limit or control disturbances of any contaminated soils left on-Site under supplemental standards, to restrict use of ground water, and to monitor and maintain acceptable radon levels in buildings on the Property.

DATES: Comments should be received by November 17, 2005. The Agency will consider all comments received on the proposed AOC and may modify or withdraw its consent to the settlement if comments received disclose facts or considerations which indicate that the settlement is inappropriate, improper, or inadequate. The Agency's response to any comments received will be available for public inspection at the EPA Superfund Record Center, 999 18th Street, 5th Floor, in Denver, Colorado.

ADDRESSES: The proposed settlement and additional background information relating to the settlement are available for public inspection at the EPA Superfund Records Center, 999 18th Street, 5th Floor, in Denver, Colorado. Comments and requests for a copy of the proposed settlement should be addressed to Sharon Abendschan, Enforcement Specialist (8ENF-RC), U.S. Environmental Protection Agency, 999 18th Street, Suite 300, Denver, Colorado 80202-2466, and should reference the Denver Radium-OU 2 proposed AOC.

FOR FURTHER INFORMATION CONTACT: Richard Sisk, Legal Enforcement Attorney (ENF-L) Legal Enforcement Program, U.S. Environmental Protection Agency, 999 18th Street, Suite 300, Denver, Colorado 80202-2466, (303) 312-6638.

It is so agreed.

Dated: October 12, 2005.
Eddie A. Sierra,
Acting Assistant Regional Administrator, Office of Enforcement, Compliance and Environmental Justice, Region VIII.

[FR Doc. 05-20825 Filed 10-17-05; 8:45 am]

BILLING CODE 6560-50-P